DEPARTMENT OF JUSTICE

Bureau of Justice Statistics

[OJP (BJS)-1307A]

Hate Crime Statistics Data Collection in Selected Police and Sheriffs' Departments; Extension

AGENCY: Office of Justice Programs, Bureau of Justice Statistics, Justice.

ACTION: Extension of grant application due date.

SUMMARY: The purpose of this notice is to announce a change to the deadline date of the submission of proposals to the Solicitation “Hate Crime Statistics Data Collection in Selected Police and Sheriffs' Departments” from December 31, 2000 to January 8, 2001.

DATES: Proposals must arrive at the Bureau of Justice Statistics (BJS) on or before 5:00 p.m. ET, Monday, January 8, 2001, or be postmarked on or before January 8, 2001.

ADDRESSES: Proposals should be mailed to: Application Coordinator, Bureau of Justice Statistics, 810 Seventh St. NW., Washington, DC 20531; (202) 616-3497.

FOR FURTHER INFORMATION CONTACT: Charles R. Kindermann, Ph.D., Senior Statistician, Bureau of Justice Statistics, (202) 616-3489 or Carol Kaplan, Chief, National Criminal History Improvement Program (202) 307-0759.

Dated: December 5, 2000.
Jan M. Chaiken,
Director, Bureau of Justice Statistics.

[FR Doc. 00-31693 Filed 12-12-00; 8:45 am]

BILLING CODE 4410-18-P